FEDERAL COMMUNICATIONS COMMISSION

47 CFR Part 73

[DA 06-1228; MB Docket No. 04-361; RM-11074]

Radio Broadcasting Services; Portales and Roswell, NM

AGENCY: Federal Communications Commission.

ACTION: Final rule.

SUMMARY: At the request of Dana J. Puopolo this document allots Channel 237C0 at Roswell, New Mexico, as the community's thirteenth local transmission service, and at the request of Rooney Moon Broadcasting, Inc., grants the application File No. BPH-20040426AAJ, substituting Channel 290C1 for Channel 237A at Portales, New Mexico. Channel 237C0 is allotted at Roswell at a site 29.1 kilometers (18.1 miles) northwest of the community at coordinates 33-31-30 NL and 104-47-56 WL. Channel 290C1 is allotted at Portales at a site 5.5 kilometers (3.4 miles) east of the community at coordinates 34-11-34 NL and 103-16-44 WL.

DATES: Effective July 24, 2006.

ADDRESSES: Secretary, Federal Communications Commission, 445 12th Street, S.W., Room TW-A325, Washington, DC 20554.

FOR FURTHER INFORMATION CONTACT: Victoria M. McCauley, Media Bureau, (202) 418-2180.

SUPPLEMENTARY INFORMATION: This is a summary of the Commission's Report and Order, MB Docket No. 04-361, adopted June 7, 2006, and released June 9, 2006. The Notice of Proposed Rule Making, 69 FR 57897, September 28, 2004, was issued at the request of Dana J. Puopolo. The full text of this Commission decision is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC, 20054, telephone 800-378-3160 or http://www.BCPIWEB.com.

The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under New Mexico, is amended by removing Channel 237A and adding 290C1 at Portales, and adding Channel 237C0 at Roswell.

Federal Communications Commission.
John A. Karousos,
Assistant Chief, Audio Division, Media Bureau.

[FR Doc. 06-5846 Filed 6-27-06; 8:45 am]

BILLING CODE 6712-01-P